DEPARTMENT OF THE INTERIOR

National Park Service

Notice of Inventory Completion: Minnesota Indian Affairs Council, Bemidji, MN

AGENCY: National Park Service, Interior.

ACTION: Notice.

Notice is here given in accordance with the Native American Graves Protection and Repatriation Act (NAGPRA), 25 U.S.C. 3003, of the completion of an inventory of human remains and associated funerary objects in the possession of the Minnesota Indian Affairs Council, Bemidji, MN. The human remains and associated funerary objects were removed from Clearwater County, MN.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains and associated funerary objects was made by the Minnesota Indian Affairs Council professional staff in consultation with representatives of the White Earth Band of Minnesota Chippewa Tribe, Minnesota.

In 1952, human remains representing a minimum of one individual were removed from site 21-CE-5, Ponsford Landing Site, Clearwater County, MN, by Mr. Robert H. Littlewolf's father. In 1959, Mr. Littlewolf, a White Earth band member, gave the human remains and associated funerary objects to the University of Minnesota. The University of Minnesota transferred control of the human remains and associated funerary objects to the Minnesota Indian Affairs Council per a transfer agreement dated June 16, 1989. No known individual was identified. The 12 associated funerary objects are 1 ceramic sherd, 1 bone needle, 1 bone shaft straightener, 1 bone punch, 1 bone harpoon, and 7 pieces of worked bone.

Based on material culture, the burial at site 21-CE-5 has been identified as a post-contact burial related to the local Ojibwe population, who were later relocated to the White Earth Reservation after 1867. The geographic location is consistent with the historically documented territory of the White Earth Band of Minnesota Chippewa Tribe, Minnesota.

Officials of the Minnesota Indian Affairs Council have determined that, pursuant to 25 U.S.C. 3001 (9-10), the human remains described above represent the physical remains of one individual of Native American ancestry. Officials of the Minnesota Indian Affairs Council have also determined that, pursuant to 25 U.S.C. 3001 (3)(A), the 12 objects described above are reasonably believed to have been placed with or near individual human remains at the time of death or later as part of the death rite or ceremony. Lastly, officials of the Minnesota Indian Affairs Council have determined that, pursuant to 25 U.S.C. 3001 (2), there is a relationship of shared group identity that can be reasonably traced between the Native American human remains and associated funerary objects and the White Earth Band of Minnesota Chippewa Tribe, Minnesota.

Representatives of any other Indian tribe that believes itself to be culturally affiliated with the human remains and associated funerary objects should contact James L. (Jim) Jones Jr., Cultural Resource Director, Minnesota Indian Affairs Council, 1819 Bemidji Ave., Bemidji, MN 56601, telephone (218) 755-3825, before November 12, 2009. Repatriation of the human remains and associated funerary objects to the White Earth Band of Minnesota Chippewa Tribe, Minnesota may proceed after that date if no additional claimants come forward.

The Minnesota Indian Affairs Council is responsible for notifying the White Earth Band of Minnesota Chippewa Tribe, Minnesota that this notice has been published.

Dated: September 8, 2009
Sherry Hutt,
Manager, National NAGPRA Program.

[FR Doc. E9-24557 Filed 10-9-09; 8:45 am]

BILLING CODE 4312-50-S